DEPARTMENT OF TRANSPORTATION

Federal Aviation Administration

14 CFR Part 71

[Docket No. FAA-2003-16410; Airspace Docket No. 03-ACE-79]

Establishment of Class E2 Airspace; and Modification of Class E5 Airspace; Hutchinson, KS

AGENCY: Federal Aviation Administration (FAA), DOT.

ACTION: Final rule.

SUMMARY: This rule establishes a Class E surface area at Hutchinson, KS for those times when the air traffic control tower (ATCT) is closed. It also modifies the Class E airspace area extending upward from 700 feet above the surface at Hutchinson, KS by correcting the identified type of one navigational aid and the location of another.

The effect of this rule is to provide appropriate controlled Class E airspace for aircraft executing instrument approach procedures to Hutchinson Municipal Airport and to segregate aircraft using instrument approach procedures in instrument conditions from aircraft operating in visual conditions.

EFFECTIVE DATE: 0901 UTC, February 19, 2004.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On Thursday, November 20, 2003, the FAA proposed to amend 14 CFR part 71 to establish a Class E surface area and to modify other Class E airspace at Hutchinson, KS (68 FR 65417). The proposal was to establish a Class E surface area at Hutchinson, KS, for those times when the air traffic control tower (ATCT) is closed. It was also to modify the Class E5 airspace and its legal description by revising the identified type of one navigational aid and the location of another navigational aid serving Hutchinson Municipal Airport and used in the Class E airspace legal description. Interested parties were invited to participate in this rulemaking proceeding by submitting written comments on the proposal to the FAA. No comments objecting to the proposal were received.

The Rule

This amendment to Part 71 of the Federal Aviation Regulations (14 CFR Part 71) establishes Class E airspace designated as a surface area for an airport at hutchinson, KS. Controlled airspace extending upward from the surface of the earth is needed to contain aircraft executing instrument approach procedures. This airspace will be in effect during those times when the ATCT is closed. Weather observations will be provided by an Automated Surface Observing System (ASOS) and communications will be directed with Wichita ATCT.

This rule also revises the Class E airspace area extending upward from 700 feet above the surface at Hutchinson, KS. An examination of this Class E airspace area for Hutchinson, KS revealed a discrepancy in the identified type of one navigational aid and a discrepancy in the location of another navigational aid serving Hutchinson Municipal Airport and used in the Class E airspace legal description. The Hutchinson Very High Frequency Omni-Directional Range (VOR)/Distance Measuring Equipment (DME) is misidentified as a VHF Omni-Directional Range/Tactical Air Navigation (VORTAC). The location of the SALTT Outer Compass Locator (LOM) is erroneous. This action corrects these discrepancies. The areas will be depicted on appropriate aeronautical charts.

Class E airspace areas designated as surface areas are published in Paragraph 6002 of FAA Order 7400.9L, dated September 2, 2003, and effective September 16, 2003, which is incorporated by reference in 14 CFR 71.1. Class E airspace areas extending upward from 700 feet or more above the surface of the earth are published in Paragraph 6005 of the same Order. The Class E airspace designations listed in this document will be published subsequently in the Order.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9L, Airspace Designations and Reporting Points, dated September 2, 2003, and effective September 16, 2003, is amended as follows:

Paragraph 6002 Class E airspace designated as surface areas.

* * * * *

ACE KS E2 Hutchinson, KS

Hutchinson Municipal Airport, KS

(Lat. 38°03′56″ N., long. 97°51′38″ W.)

Within a 4.3-mile radius of Hutchinson Municipal Airport. This Class E airspace area is effective during the specific dates and times established in advance by a Notice to Airmen. The effective date and time will thereafter be continuously published in the Airport/Facility Directory.

* * * * *

Paragraph 6005 Class E airspace areas extending upward from 700 feet or more above the surface of the earth.

* * * * *

ACE KS E5 Hutchinson, KS

Hutchinson Municipal Airport, KS

(Lat. 38°03′56″ N., long. 97°51′38″ W.)

Hutchinson VOR/DME

(Lat. 37°59′49″ N., long. 97°56′03″ W.)

SALTT LOM

(Lat. 38°07′25″ N., long. 97°55′37″ W.)

Hutchinson ILS Localizer

(Lat. 38°03′31″ N., long. 97°51′12″ W.)

That airspace extending upward from 700 feet above the surface within a 6.8-mile radius of the Hutchinson Municipal Airport, and within 4 miles each side of the Hutchinson ILS localizer northwest course extending to 16 miles northwest of the SALTT LOM, and within 4 miles each side of the ILS localizer back course extending from the 6.8-mile radius to 7.4 miles southeast of the airport, and within 4 miles each side of the Hutchinson VOR/DME 042° radial extending from the 6.8-mile radius to 7.4 miles northeast of the airport, and within 4 miles each side of the Hutchinson VOR/DME 222° radial extending from the 6.8-mile radius to 11.2 miles southwest of the airport.

* * * * *

Issued in Kansas City, MO, on December 30, 2003.
Paul J. Sheridan,
Acting Manager, Air Traffic Division, Central Region.

[FR Doc. 04-490 Filed 1-9-04; 8:45 am]

BILLING CODE 4910-13-M